ENVIRONMENTAL PROTECTION AGENCY

40 CFR Part 50

[FRL-9906-45-ORD; Docket ID No. EPA-HQ-ORD-2013-0620 and Docket ID No. EPA-HQ-OAR-2014-0128]

Notice of Workshop in Support of the Review of the Secondary National Ambient Air Quality Standards for Oxides of Nitrogen and Sulfur

AGENCY: Environmental Protection Agency (EPA).

ACTION: Notice of workshop.

SUMMARY: EPA is announcing a “Workshop to Discuss Policy-Relevant Science to Inform EPA's Review of the Secondary National Ambient Air Quality Standards (NAAQS) for Oxides of Nitrogen and Sulfur.” This workshop is being organized by EPA's Office of Research and Development's, National Center for Environmental Assessment (NCEA) and the Office of Air and Radiation's, Office of Air Quality Planning and Standards (OAQPS). The workshop will be held March 4-6, 2014, in Research Triangle Park, North Carolina, and it will be open to attendance by interested public observers on a first-come, first-served basis up to the limits of available space.

DATES: The workshop will be held March 4-6, 2014. The pre-registration deadline is February 28, 2014.

ADDRESSES: The workshop will be held at U.S. EPA, 109 T.W. Alexander Drive, Research Triangle Park, North Carolina. An EPA contractor, ICF International, is providing logistical support for the workshop. Please register by going to: https://sites.google.com/site/soxnoxkickoffworkshop/.

FOR FURTHER INFORMATION CONTACT: Please direct questions regarding workshop registration or logistics to Courtney Skuce at: EPA_NAAQS_Workshop@icfi.com or by phone at: 919-293-1660. For technical information, contact Tara Greaver, Ph.D., NCEA; telephone: 919-541-2435; or email: greaver.tara@epa.gov or Ginger Tennant, OAQPS; telephone: 919-541-4072; or email: tennant.ginger@epa.gov.

SUPPLEMENTARY INFORMATION:

I. Information About the Workshop

Section 108(a) of the Clean Air Act directs the Administrator to issue “air quality criteria” for certain air pollutants. These air quality criteria are to “accurately reflect the latest scientific knowledge useful in indicating the kind and extent of all identifiable effects on public health or welfare, which may be expected from the presence of such pollutant in the ambient air. . . .” Under section 109 of the Act, EPA is then to establish National Ambient Air Quality Standards (NAAQS) for each pollutant for which EPA has issued criteria. Section 109(d) of the Act subsequently requires periodic review and, if appropriate, revision of existing air quality criteria to reflect advances in scientific knowledge on the effects of the pollutant on public health and welfare. EPA is also to revise the NAAQS, if appropriate, based on the revised air quality criteria.

NOX and SOX are two of six “criteria” pollutants for which EPA has established NAAQS. Periodically, EPA reviews the scientific basis for these standards by preparing an Integrated Science Assessment (ISA). The ISA, along with additional technical and policy assessments conducted by OAQPS, form the basis for EPA decisions on the adequacy of existing NAAQS and the appropriateness of new or revised standards.

This workshop is designed to inform the planning for EPA's recently initiated review of the secondary (welfare-based) NAAQS for Oxides of Nitrogen and Sulfur. The Federal Register notice issuing EPA's call for information for the recently initiated review is available at: http://www.epa.gov/ttn/naaqs/standards/no2so2sec/2013_fr.html. Consistent with the NAAQS review process, the workshop will provide an opportunity for those attending to highlight key science issues that they consider relevant to EPA's review of the standards (referred to as “policy-relevant issues”). More information on the NAAQS review process is provided at: http://www.epa.gov/ttn/naaqs/. In workshop discussions, scientific experts will be expected to highlight significant new and emerging research on oxides of nitrogen and sulfur and make recommendations to the Agency regarding the design and scope of this review. The goal of the workshop is to ensure that EPA focuses on the key issues relevant to EPA's review of the NAAQS and considers the most meaningful new science to inform our understanding of these issues. Workshop discussions will provide important input as EPA considers the appropriate design and scope of major elements of the review that will inform the Agency's policy assessment. These elements include an integrated review plan (IRP) identifying the key policy-relevant issues; an integrated science assessment (ISA); and a risk and exposure assessment (REA). We intend that workshop discussions will build upon the following three publications:

• Secondary National Ambient Air Quality Standards for Nitrogen Dioxide; Final Rule (40 CFR part 50 [EPA-HQ-OAR-2007-1145], April 3, 2012). The preamble to the final rule included detailed discussions of policy-relevant issues central to the last review.

• Integrated Science Assessment for Oxides of Nitrogen and Sulfur—Ecological Criteria (EPA 600/R-08/082F, December 2008).

• Risk and Exposure Assessment to Support the Review of the NO2 Primary National Ambient Air Quality Standard (EPA 452/R-09/008a, September 2009).

You can obtain copies of these and other related documents at: http://www.epa.gov/ttn/naaqs/standards/no2so2sec/index.html.

Drawing from the workshop discussions, EPA will develop a draft IRP. The IRP, in addition to summarizing the schedule and process for the review, will present approaches for evaluating the relevant scientific information; assessing risks to the environment; and addressing the key policy-relevant issues. The Clean Air Scientific Advisory Committee (CASAC) will be asked to review the draft IRP, and the public will have the opportunity to comment on it as well. The final IRP will be used as a framework to guide the review.

Dated: February 4, 2014.
Abdel Razak M. Kadry,
Acting Deputy Director, National Center for Environmental Assessment.

[FR Doc. 2014-03116 Filed 2-12-14; 8:45 am]

BILLING CODE 6560-50-P